DEPARTMENT OF HOUSING AND URBAN DEVELOPMENT

[Docket No. FR-4837-D-17]

Delegation of Authority With Respect to the Section 184A Loan Guarantee Program for Native Hawaiian Housing

AGENCY: Office of the Secretary, HUD.

ACTION: Notice of delegation of authority.

SUMMARY: In this notice, the Secretary delegates the authority to administer the Section 184A Loan Guarantee Program for Native Hawaiian Housing to the Assistant Secretary for Public and Indian Housing.

EFFECTIVE DATE: July 7, 2003.

FOR FURTHER INFORMATION CONTACT: Sherone Ivey, Office of Native American Programs, Office of Public and Indian Housing, Department of Housing and Urban Development, 451 Seventh Street, SW., Room 4126, Washington DC 20410-5000; telephone (202) 401-7914. (This is not a toll-free number.) For those needing assistance, this number may be accessed through TTY by calling the toll-free Federal Information Relay Service at 1-800-877-8339.

SUPPLEMENTARY INFORMATION: The Section 184A Loan Guarantee Program for Native Hawaiian Housing is authorized by Section 184A of the Housing and Community Development Act of 1992 (12 U.S.C. 1715z-13b). The purpose of the program is to provide Native Hawaiian families with greater access to private mortgage resources through federal loan guarantees to lenders. This notice delegates the authority to administer the Section 184A Loan Guarantee Program for Native Hawaiian Housing to the Assistant Secretary for Public and Indian Housing.

Section A. Authority Delegated

The Secretary of HUD delegates to the Assistant Secretary for Public and Indian Housing the authority to administer the Section 184A Loan Guarantee Program for Native Hawaiian Housing under Section 184A of the Housing and Community Development Act of 1992 (12 U.S.C. 1715z-13b), including the authority to issue and waive regulations.

Section B. Authority Excepted

The authority delegated under Section A does not include the power to sue and be sued.

Section C. Authority to Redelegate

The authority delegated in Section A may be redelegated to employees of the Department in accordance with a written redelegation of authority, except the authority to issue or waive regulations.

Authority: Section 7(d), Department of Housing and Urban Development Act (42 U.S.C. 3535(d)).

Dated: July 7, 2003.
Mel Martinez,
Secretary.

[FR Doc. 03-18187 Filed 7-17-03; 8:45 am]

BILLING CODE 4210-32-P